NUCLEAR REGULATORY COMMISSION

[Docket No. 50-228-LT; ASLBP No. 14-931-01-LT-BD01]

Atomic Safety and Licensing Board; Before Administrative Judge: E. Roy Hawkens, Presiding Officer; In the Matter of Aerotest Operations, Inc. (Aerotest Radiography and Research Reactor); Notice of Hearing (Notice of Closed Evidentiary Hearing)

July 29, 2014.

The Atomic Safety and Licensing Board hereby gives notice that it will convene an evidentiary hearing pursuant to the 10 CFR part 2, Subpart M procedures to receive testimony and exhibits in the proceeding regarding the license transfer application of Aerotest Operations, Inc. and its proposed transferee, Nuclear Labyrinth, LLC (together, the Companies). Because the testimony will focus on proprietary information regarding whether the Companies satisfy financial qualification requirements for a license transfer under 10 CFR 50.33(f), the hearing will be closed to the public.

I. Matters to Be Considered

As set forth by the Licensing Board in its May 2014 Memorandum and Order Ruling on Admissibility of Areas of Controversy, there are two litigable areas of controversy in this proceeding: (1) Whether the Staff correctly concluded that the Companies failed to demonstrate that they have, or with reasonable assurance will have, sufficient funding to conduct activities authorized by the Aerotest Radiography and Research Reactor (ARRR) license if the license is indirectly transferred; and (2) whether the Staff correctly concluded that the Companies failed to demonstrate that there will be sufficient funds to cover the annual cost of spent fuel storage until the Department of Energy accepts ARRR's spent fuel. See Memorandum and Order (Ruling on Admissibility of Areas of Controversy) at 2 (May 22, 2014).¹

¹ See also Safety Evaluation by the Office of Nuclear Reactor Regulation Indirect License Transfer of [ARRR] Due to the Proposed Acquisition of Aerotest Operations, Inc. by Nuclear Labyrinth, LLC Facility Operating License No. R-98 (July 24, 2013) at 9, 11; see also CLI-14-05, 76 NRC at __-__ (slip op. at 4-5).

II. Date, Time, and Location of Evidentiary Hearing

The evidentiary hearing will commence at 10:00 a.m. Eastern Time (ET) on Tuesday, August 12, 2014 in the Atomic Safety and Licensing Board Panel's Rockville Hearing Room and, if practicable, will continue that day until complete.

III. Availability of Documentary Information Regarding the Proceeding

Documents related to this proceeding are available for public inspection at the Commission's Public Document Room (PDR), located at One White Flint North, 11555 Rockville Pike (first floor), Rockville, Maryland, or electronically via the publicly-available records component of NRC's document system (ADAMS). ADAMS is accessible from the NRC Web site at www.nrc.gov/reading-rm/adams.html (the Public Electronic Reading Room). Persons who do not have access to ADAMS or who encounter problems in accessing the documents located in ADAMS should contact the NRC PDR reference staff by telephone at (800) 397-4209 or (301) 415-4737 (available between 8:00 a.m. and 4:00 p.m., ET, Monday through Friday except federal holidays) or by email to pdr@nrc.gov.

IV. Information Updates to Schedule

Any updates or revisions to the evidentiary hearing schedule can be found on the NRC Web site at www.nrc.gov/public-involve/public-meetings/index.cfm, or by calling (800) 368-5642, extension 5036 (available between 7:00 a.m. and 9:00 p.m. ET, Monday through Friday, except federal holidays), or by calling (301) 415-5036 (available seven days a week, twenty-four hours a day).

It is so ordered.

The Atomic Safety and Licensing Board. Rockville, Maryland.
Dated: July 29, 2014.
E. Roy Hawkens,
Presiding Officer.

[FR Doc. 2014-18402 Filed 8-1-14; 8:45 am]

BILLING CODE 7590-01-P